DEPARTMENT OF ENERGY

Federal Energy Regulatory Commission

Notice of Meeting, Notice of Vote, Explanation of Action Closing Meeting and List of Persons to Attend

August 29, 2002.

The following notice of meeting is published pursuant to Section 3(a) of the Government in the Sunshine Act (Pub. L. 94-409), 5 U.S.C. 552b:

Agency Holding Meeting: Federal Energy Regulatory Commission.

Date and Time: September 5, 2002(30 Minutes Following Regular Commission Meeting).

Place: Hearing Room 5, 888 First Street, NE., Washington, DC 20426.

Status: Closed.

Matters to be Considered: Non-Public Investigations and Inquiries and Enforcement Related Matters.

CONTACT PERSON FOR MORE INFORMATION: Magalie R. Salas, Secretary, Telephone (202) 502-8400.

Chairman Wood and Commissioners Massey, Breathitt and Brownell voted to hold a closed meeting on September 5, 2002. Attached is the certification of the General Counsel explaining the action closing the meeting.

The Chairman and the Commissioners, their assistants, the Commission's Secretary and her assistant, the General Counsel and members of her staff, and a stenographer are expected to attend the meeting. Other staff members from the Commission's program offices who will advise the Commissioners in the matters discussed will also be present.

Magalie R. Salas,
Secretary.

CERTIFICATION

I hereby certify that, in my opinion, Commission deliberations scheduled for September 5, 2002, concerning non-public investigations and inquiries may properly be closed to public observation. Discussions are likely to involve disclosure of trade secrets or financial information or other privileged or confidential information obtained from a person. Discussions also may involve investigative records compiled for law enforcement purposes, or information which if written would be contained in such records, the disclosure of which would interfere with enforcement proceedings. Further, discussions may involve the possible initiation of administrative proceedings the premature disclosure of which could frustrate implementation of proposed agency action.

The relevant exemptions on which this certification is based are set forth in 5 U.S.C. §§ 552b(c)(4), (7)(A), and (9)(B), (10), and 18 C.F.R. §§ 375.205(a)(4), (7)(I), (9)(ii), and (10).

Dated: August 28, 2002.
Cynthia A. Marlette,
General Counsel.

[FR Doc. 02-22584 Filed 9-3-02; 10:53 am]

BILLING CODE 6717-01-P